DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 9, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Understanding Risk Assessment in Supplemental Nutrition Assistance Program (SNAP) Payment Accuracy.

OMB Control Number: 0584-NEW.

Summary of Collection: The Payment Integrity Information Act of 2019 continues the work of previous related legislation in requiring Federal agencies to track and mitigate improper payments, which are defined as payments that either should not have been made or were made in an incorrect amount. FNS and the SNAP State agencies use SNAP Quality Control (QC) to closely monitor the program for improper payments. SNAP State agencies must conduct a QC review of a random sample of current cases each month (referred to as active cases) to identify underpayments and overpayments and calculate total payment error. At the end of the review period for each month's cases, the SNAP State agencies share the case files and results with Federal SNAP staff, who review a subsample of the cases for accuracy and use the results to calculate an annual official payment error rate for each State agency's official payment error rate.

Need and Use of the Information: FNS is conducting a study, Understanding Risk Assessment in Supplemental Nutrition Assistance Program (SNAP) Payment Accuracy, to develop a comprehensive picture of whether and how SNAP State agencies use RA tools and determine if these tools create disparate impacts on protected classes. The key research objectives follow: (1) determine which States use RA tools to reduce error rates; (2) determine what factors and variables are being used in RA tools; (3) identify how SNAP State agencies act on the results of their RA tools; (4) determine whether SNAP State agencies' RA tools are successful in reducing error rates; (5) determine if the RA tools create (or relieve) racial or other disparities by which individuals are flagged for further review; and (6) determine best practices in the development and use of RA tools.

Description of Respondents: State, Local and Tribal Governments, Individuals and Households.

Number of Respondents: 100.

Frequency of Responses: Reporting: On Occasion.

Total Burden Hours: 111.

Rachelle Ragland-Greene,
Acting Departmental Information Collection Clearance Officer.

[FR Doc. 2024-07465 Filed 4-8-24; 8:45 am]

BILLING CODE 3410-30-P